NUCLEAR REGULATORY COMMISSION

[NRC-2014-0085]

Information on Licensing Applications for Fracture Toughness Requirements for Ferritic Reactor Coolant Pressure Boundary Components

AGENCY: Nuclear Regulatory Commission.

ACTION: Draft regulatory issue summary; request for comment.

SUMMARY: The U.S. Nuclear Regulatory Commission (NRC) is seeking public comment on draft regulatory issue summary (RIS) 2014-XX. This draft RIS would provide guidance to applicants for, and holders of, nuclear power reactor licenses, construction permits, standard design approvals, and manufacturing licenses, and applicants for standard design certifications, on the scope and detail of information that should be provided in licensing applications regarding reactor vessel fracture toughness and associated pressure-temperature limits.

DATES: Submit comments by May 19, 2014. Comments received after this date will be considered if it is practical to do so, but the NRC is able to assure consideration only for comments received on or before this date.

ADDRESSES: You may submit comment by any of the following methods (unless this document describes a different method for submitting comments on a specific subject):

• Federal Rulemaking Web site: Go to http://www.regulations.gov and search for Docket ID NRC-2014-0085. Address questions about NRC dockets to Carol Gallagher; telephone: 301-287-3422; email: Carol.Gallagher@nrc.gov. For technical questions, contact the individual(s) listed in the FOR FURTHER INFORMATION CONTACT section of this document.

• Mail comments to: Cindy Bladey, Chief, Rules, Announcements, and Directives Branch (RADB), Office of Administration, Mail Stop: 3WFN, 06-44M, U.S. Nuclear Regulatory Commission, Washington, DC 20555-0001.

For additional direction on accessing information and submitting comments, see “Accessing Information and Submitting Comments” in the SUPPLEMENTARY INFORMATION section of this document.

FOR FURTHER INFORMATION CONTACT: Alexandra Popova, Office of Nuclear Reactor Regulation (NRR), telephone: 301-415-2876, email: Alexandra.Popova@nrc.gov; or Tanya Mensah, NRR, telephone: 301-415-3610, email: Tanya.Mensah@nrc.gov, U.S. Nuclear Regulatory Commission, Washington, DC 20555-0001.

SUPPLEMENTARY INFORMATION:

I. Accessing Information and Submitting Comments

A. Accessing Information

Please refer to Docket ID NRC-2014-0085 when contacting the NRC about the availability of information regarding this document. You may access publicly-available information related to this action by the following methods:

• Federal Rulemaking Web site: Go to http://www.regulations.gov and search for Docket ID NRC-2014-0085.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2014-0085 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC issues RISs to communicate with stakeholders on a broad range of regulatory matters. This may include communicating staff technical positions on matters that have not been communicated to or are not broadly understood by the nuclear industry.

The NRC staff has developed draft RIS 2014-XX, “Information on Licensing Applications for Fracture Toughness Requirements for Ferritic Reactor Coolant Pressure Boundary Components”, to provide guidance on the scope and detail of information that should be provided in reactor vessel fracture toughness and associated P-T limits licensing applications to facilitate staff review. The RIS, if issued in final form, would be used by applicants for, and holders of, nuclear power reactor licenses, construction permits, standard design approvals, and manufacturing licenses, and applicants for standard design certifications. The draft RIS explains that these entities should ensure that P-T limits developed in accordance with the requirements of 10 CFR Part 50, Appendix G sufficiently address all ferritic materials of pressure-retaining components of the reactor coolant pressure boundary, including the impact of structural discontinuities and neutron fluence accumulation. The draft RIS is available electronically under ADAMS Accession No. ML13301A188.

Dated at Rockville, Maryland, this 10th day of April 2014.
For the Nuclear Regulatory Commission.
Sheldon D. Stuchell,
Acting Chief Generic Communications Branch, Division of Policy and Rulemaking, Office of Nuclear Reactor Regulation.

[FR Doc. 2014-08794 Filed 4-16-14; 8:45 am]

BILLING CODE 7590-01-P